DEPARTMENT OF ENERGY

Federal Energy Regulatory Commission

Combined Notice of Filings #1

Take notice that the Commission received the following electric corporate filings:

Docket Numbers: EC16-167-000.

Applicants: CPV Towantic, LLC, Towantic Energy Holdings, LLC, Aircraft Services Corporation, Ullico Infrastructure Master Fund, L.P.

Description: Application for Authorization Under Section 203 of the Federal Power Act and Request for Waivers, Confidential Treatment, Expedited Action and Shortened Comment Period of CPV Towantic, LLC, et al.

Filed Date: 8/17/16.

Accession Number: 20160817-5442.

Comments Due: 5 p.m. ET 9/7/16.

Take notice that the Commission received the following electric rate filings:

Docket Numbers: ER13-108-001.

Applicants: Alcoa Power Generating Inc.

Description: Informational Filing of Alcoa Power Generating Inc. (Long Sault Division) Regarding Waiver of the Order No. 1000 Requirements.

Filed Date: 8/16/16.

Accession Number: 20160816-5277.

Comments Due: 5 p.m. ET 9/6/16.

Docket Numbers: ER16-2408-000.

Applicants: Midcontinent Independent System Operator, Inc.

Description: Correction to August 11, 2016 Notice of Termination of Large Generator Interconnection Agreement No. 1882 of Midcontinent Independent System Operator, Inc.

Filed Date: 8/16/16.

Accession Number: 20160816-5145.

Comments Due: 5 p.m. ET 9/1/16.

Docket Numbers: ER16-2440-000.

Applicants: Brandon Shores LLC.

Description: Compliance filing: Reactive Service Resubmittal to be effective 9/13/2016.

Filed Date: 8/17/16.

Accession Number: 20160817-5411.

Comments Due: 5 p.m. ET 9/7/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 18, 2016.
Kimberly D. Bose,
Secretary.

[FR Doc. 2016-20275 Filed 8-23-16; 8:45 am]

BILLING CODE 6717-01-P